DEPARTMENT OF THE INTERIOR

Fish and Wildlife Service

Privacy Act of 1974, As Amended; Addition of a New System of Records

AGENCY: Fish and Wildlife Service, Interior.

ACTION: Proposed addition of a new system of records.

SUMMARY: The Department of the Interior (DOI) is issuing public notice of its intent to add a new Department-wide Privacy Act system of records to its inventory of records systems, subject to the Privacy Act of 1974. This action is necessary to meet the requirements of the Privacy Act to publish, in the Federal Register, notice of the existence and character of records systems maintained by the agency. The new system of records is called the “National Conservation Training Center (NCTC) Training Server System, FWS-34”.

DATES: Comments on this new system of records must be received on or before May 21, 2002.

ADDRESSES: Address all comments on this new system of records to U.S. Fish and Wildlife Service, Privacy Act Officer, Mail Stop 222 Arlington Square Building, 4401 North Fairfax Drive, Arlington, Virginia 22203.

FOR FURTHER INFORMATION CONTACT: Mr. Johnny R. Hunt, Service Privacy Act Officer, U.S. Fish and Wildlife Service, Phone: 703/358-1730.

SUPPLEMENTARY INFORMATION: The U.S. Fish and Wildlife Service's (FWS) NCTC is a facility that provides training and education services to the FWS, other bureaus, and States. In order to efficiently arrange its operations, NCTC is implementing an electronic tracking system, which employs a Training Server and Online Training Information System (OTIS) support module. We require the information to validate training records necessary for certification and to meet periodic reporting requirements mandated by the Office of Personnel Management (OPM), the FWS's Office of Human Resources, and OMB, which reports on training budget and total student training days. 5 U.S.C. 552a(e)(11) requires that the public be provided a 30-day period in which to comment on the intended use of the information in the system of records. The Office of Management and Budget (OMB), in Circular A-130, requires an additional 10-day period (for a total of 40 days) in which to make these comments. Any persons interested in commenting on this proposed system notice may do so by submitting comments in writing as indicated under ADDRESSES. Comments received within 40 days of publication will be considered. The system will be effective as proposed at the end of the comment period, unless comments are received that would require a contrary determination. We will publish a revised notice if we make changes based on our review of comments received.

Dated: April 8, 2002.
John D. Kraus,
Chief, Division of Policy and Directives Management, Fish and Wildlife Service.

INTERIOR/FWS-34

System name:

National Conservation Training Center Training Server System.

Security classification:

None.

System location:

The records are stored at the U.S. Fish and Wildlife Service's National Conservation Training Center (NCTC), Division of Facility Operations, Office of the Registrar, RR1 Box 166, Shepherd Grade Road, Shepherdstown, WV 25443.

Categories of individuals covered by the system:

Records are maintained on those individuals who participate in NCTC-sponsored training. This includes FWS employees as well as employees from other Federal agencies and non-Federal personnel from other States, private agencies, and universities. Training records are also kept on all FWS employees.

Categories of records in the system:

The records contain the participant's name, Social Security number, organizational address, affiliation, phone/fax number, email address, lodging requirements, supervisor's name and telephone number, Federal job series/title/grade, billing information (e.g., responsible agency, tax I.D. number, agency location code (ALC) number, purchase order numbers, and credit card numbers), special needs, necessary course information (e.g., class titles/objectives/prerequisites, instructor(s), course leader and telephone number, start and end date/times, minimum/maximum enrollment) class status information (e.g., class canceled/finished/scheduled, field exercise notes), and student transcripts (e.g., what course(s) each individual completed/did not complete, canceled, no-show).

Authority for maintenance of the system:

5 U.S.C. 4118; Executive Order 11348, 32 FR 6335 (Providing for Further Training of Government Employees); as amended by Executive Order 12107, 44 FR 1055 (Relating to Civil Service Commission and Labor Management in Federal Service); 5 CFR part 410) (Establishing and Implementing Training Programs); Americans with Disabilities Act (Pub.L. 101-336).

Purposes:

To request and store data on individuals who participate in NCTC training and training of FWS employees to validate training records for certification purposes; to meet statistical reporting requirements of OPM, DOI and FWS; to generate class rosters, personnel transcripts, and budget estimates; and, to establish reservations on the NCTC campus.

Routine uses of records maintained in the system including categories of users and the purposes of such uses:

The FWS is the primary user of the system, and the primary uses of the records will be:

(1) To validate training records for certification purposes.

(2) To meet statistical reporting requirements of OPM, DOI Office for Equal Employment Opportunity, and FWS.

(3) To generate class rosters.

(4) To generate requested personnel transcripts.

(5) To generate budget estimates related to training requirements.

(6) To manage lodging reservations at the NCTC.

(7) To identify training needs.

Disclosures outside DOI may be made under the routine uses listed below without the consent of the individual if the disclosure is compatible with the purposes for which the record was collected.

(1) To another Federal agency, State office, or private organization only when necessary to respond to an inquiry by the individual to whom the record pertains.

(2) To the DOJ, or a court, adjudicative, or other administrative body or to a party in litigation before a court or adjudicative, or administrative body, when:

(a) One of the following is a party to the proceeding or has an interest in the proceeding:

(1) The DOI or any component of the DOI;

(2) Any DOI employee acting in his or her official capacity;

(3) Any DOI employee acting in his or her individual capacity where the DOI or DOJ has agreed to represent the employee; or

(4) The United States, when DOI determines that DOI is likely to be affected by the proceeding; and

(b) The Department deems the disclosure to be:

(1) Relevant and necessary to the proceedings; and

(2) Compatible with the purpose for which we compiled the information.

(3) To the appropriate Federal, State, tribal, local or foreign governmental agency that is responsible for investigating, prosecuting, enforcing or implementing a statute, rule, regulation, order or license, when we become aware of an indication of a violation or potential violation of the statute, rule, regulation, order, or license.

(4) To a congressional office in response to an inquiry to that office by the individual to whom the records pertain.

(5) To provide addresses obtained from the Internal Revenue Service to debt collection agencies for purposes of locating a debtor to collect or compromise a Federal claim against the debtor or to consumer reporting agencies to prepare a commercial credit report for use by the DOI.

Disclosure to consumer reporting agencies:

Disclosures pursuant to 5 U.S.C. 552a(b)12. Disclosures may be made from this system to consumer reporting agencies as they are defined in the Fair Credit Reporting Act (15 U.S.C. 1681a(f)) or the Federal Claims Collection Act of 1966 (31 U.S.C. 3701(a)(3)).

Policies and practices for storing, retrieving, accessing, retaining, and disposing of records in the system:

Storage:

Records will be maintained electronically with paper backup copies. The electronic copies are maintained on Redundant Array of Inexpensive Disks (RAID) Level 5 multi-disk stripped with parity disk subsystem. This online storage system allows protection of data even if one of the hard disks malfunctions. The electronic records are stored in an employee table database on the Training Server system.

Tape backup copies are created daily and, in accordance with FWS policy, they are saved for a period of 30 to 90 days and then deleted. Paper backup copies are stored in locked files.

Retrievability:

Records are retrieved by either unique identifying fields such as student name or Social Security number or by general category such as course code, training location, and class start date. Electronic retrieval is dependent upon the report or purpose of usage and whether a need to know exists. Records are retrieved for any of several purposes, such as determining enrollment numbers, reviewing the exact dates of enrollment in order to determine who requested the nomination first, affiliation for closed FWS-only courses, student addresses to mail out pre-course work, and determination of which FWS employees have received mandatory training.

Safeguards:

Access to records in the system is limited to authorized personnel only, in accordance with requirements found in the Code of Federal Regulations (43 CFR 2.51). The training server is a multi-level, password-protected database and file server system. Hard copy course files are locked on a daily basis and are only available to authorized personnel during business hours. Online web transactions are protected by secure socket layer 128-bit encryption.

Retention and disposal:

Records are maintained in accordance with the General Records Schedule (GRS-1). A copy of the records of Federal employees will be forwarded to their supervisor upon course completion to be included in their Official Personnel Folder.

System manager(s) and address:

Chief, Division of Facility Operations, U.S. Fish and Wildlife Service, National Conservation Training Center, RR1 Box 166, Shepherd Grade Road, Shepherdstown, WV 25443, Attn: Information Technology and Registrar.

Notification procedure:

Any individual may request information regarding this system of records, or information as to whether the system contains records pertaining to them, from the System Manager identified above. We require the request to be in writing, signed by the requester, and to include the requester's full name and address, and Social Security number. (See 43 CFR 2.60 for procedures on making inquiries).

Records access procedures:

For copies of your records, write to the pertinent System Managers at the location above. The request envelope and letter should be clearly marked “PRIVACY ACT REQUEST FOR ACCESS.” A request for access must meet the content requirements of 43 CFR 2.63(b)(4)).

Contesting record procedures:

Use the same procedures as “Records Access Procedures” section above. (See 43 CFR 2.71).

Record source categories:

Records come from individuals who apply to take training courses either online or on paper, and are faxed, sent via the NCTC web site, or mailed to the training center. Another source of information for FWS employees comes from the Federal Personnel and Payroll System (FPPS). Bimonthly, a secured raw ASCII file containing FWS employees' names, Social Security numbers, organization codes, grades, steps, job titles, job series, supervisory levels, and service comp dates is mailed from FWS personnel to NCTC. Data is then electronically imported and reconciled against the existing data set. This is necessary to determine FWS employees who have an active status, but have not met mandatory training requirements.

Exemptions claimed for the System:

None.

[FR Doc. 02-8837 Filed 4-10-02; 8:45 am]

BILLING CODE 4310-55-P